DEPARTMENT OF COMMERCE

Foreign-Trade Zones Board

[Docket 40-2005]

Withdrawal of Application for Expansion for Ponce, Puerto Rico Area, FTZ 163

Notice is hereby given of the withdrawal of the application requesting authority to expand FTZ 163, in the Ponce, Puerto Rico area, adjacent to the Ponce Customs port of entry. The application was filed on August 8, 2005.

The withdrawal was requested because of changed circumstances, and the case has been closed without prejudice.

Dated: April 3, 2006.
Dennis Puccinelli,
Executive Secretary.

[FR Doc. E6-5337 Filed 4-10-06; 8:45 am]

BILLING CODE 3510-DS-S